SECURITIES AND EXCHANGE COMMISSION

[Release No. 34-80610; File No. SR-MSRB-2017-01]

Self-Regulatory Organizations; Municipal Securities Rulemaking Board; Notice of Withdrawal of a Proposed Rule Change To Add New MSRB Rule G-49, on Transactions Below the Minimum Denomination of an Issue, to the Rules of the MSRB, and To Rescind Paragraph (f), on Minimum Denominations, From MSRB Rule G-15

May 5, 2017.

On January 24, 2017, the Municipal Securities Rulemaking Board (“MSRB”) filed with the Securities and Exchange Commission (“Commission”), pursuant to Section 19(b)(1) of the Securities Exchange Act of 1934 (the “Exchange Act” or “Act”) ¹ and Rule 19b-4 thereunder,² a proposed rule change to add new MSRB Rule G-49, on transactions below the minimum denomination of an issue, to the rules of the MSRB, and, in MSRB Rule G-15, on confirmation, clearance, settlement, and other uniform practice requirements with respect to transactions with customers, to rescind paragraph (f), on minimum denominations. The proposed rule change was published for comment in the Federal Register on February 9, 2017.³ The Commission received four comment letters on the proposal.⁴ On March 21, 2017, pursuant to Section 19(b)(2) of the Exchange Act,⁵ the MSRB granted an extension of time for the Commission to act on this filing until May 10, 2017. On May 1, 2017, the MSRB withdrew the proposed rule change (SR-MSRB-2017-01).

¹ 15 U.S.C. 78s(b)(1).

² 17 CFR 240.19b-4.

³ See Securities Exchange Act Release No. 79978 (February 6, 2017), 82 FR 10123.

⁴ See letters from Leslie M. Norwood, Managing Director and Associate General Counsel, Securities Industry and Financial Markets Association, dated March 2, 2017; Mike Nichols, Chief Executive Officer, Bond Dealers of America, dated March 2, 2017; Paige W. Pierce, President and Chief Executive Officer, RW Smith, dated March 3, 2017; and James J. Angel, Associate Professor of Finance, Georgetown University, McDonough School of Business, dated March 7, 2017.

⁵ 15 U.S.C. 78s(b)(2).

⁶ 17 CFR 200.30-3(a)(12).

For the Commission, pursuant to delegated authority.⁶
Eduardo A. Aleman,
Assistant Secretary.

[FR Doc. 2017-09526 Filed 5-10-17; 8:45 am]

BILLING CODE 8011-01-P